DEPARTMENT OF THE TREASURY

Internal Revenue Service

26 CFR Part 1

[REG-135734-14]

RIN 1545-BM45

Inversions and Related Transactions; Correction

AGENCY: Internal Revenue Service (IRS), Treasury.

ACTION: Correction to a notice of proposed rulemaking by cross-reference to temporary regulation.

SUMMARY: This document contains corrections to a notice of proposed rulemaking by cross-reference to temporary regulations (REG-135734-14) that were published in the Federal Register on Friday, April 8, 2016 (81 FR 20588). The proposed regulations relate to transactions that are structured to avoid the purposes of sections 7874 and 367 of the Internal Revenue Code (the Code) and certain post-inversion tax avoidance transactions.

DATES: Written or electronic comments and requests for a public hearing for the notice of proposed rulemaking published at 81 FR 20588, April 8, 2016 are still being accepted and must be received by July 7, 2016.

FOR FURTHER INFORMATION CONTACT: Concerning the proposed regulations under sections 304, 367, and 7874, Shane M. McCarrick or David A. Levine, (202) 317-6937; concerning the proposed regulations under sections 956 and 770 (l), Rose E. Jenkins (202) 317-6934; concerning submissions or comments or requests for a public hearing, Regina Johnson 202-317-6901 (not toll-free numbers).

SUPPLEMENTARY INFORMATION:

Background

The notice of proposed rulemaking by cross-reference to temporary regulations (REG-135734-14) that is the subject of this correction is under sections 304, 367, 956, 7701(l), and 7874 of the Internal Revenue Code.

Need for Correction

As published, the notice of proposed rulemaking by cross-reference to temporary regulations (REG-135734-14) contains errors that may prove to be misleading and are in need of clarification.

Correction of Publication

Accordingly, the notice of proposed rulemaking by cross-reference to temporary regulations (REG-135734-14) that was the subject of FR Doc. 2016-07299 is corrected as follows:

1. On page 20588, in the preamble, in the “Background” paragraph, in the fifth line, the language “954, 956, 7701(l), and 7874 of the” is corrected to read “956, 7701(l), and 7874 of the”.

§ 1.7874-4 [Corrected]

2. On page 20590, second column, seventh line of paragraph (c)(1)(ii), the language “(ii) [Reserved].” is corrected to read “(ii) introductory text through (ii)(A) [Reserved].”.

3. On page 20590, second column, second line of paragraph (i)(7), the language “(i)(7)(iii) introductory text [Reserved].” is corrected to read “(i)(7)(iii)(B) [Reserved].”.

4. On page 20590, third column, first and second line of paragraph (j), the language “(j) introductory text through (j)(6) [Reserved].” is corrected to read “(i)(8) through (j)(6) [Reserved]”.

Martin V. Franks,
Chief, Publications and Regulations Branch, Associate Chief Counsel, (Procedure and Administration).

[FR Doc. 2016-13015 Filed 6-1-16; 8:45 am]

BILLING CODE 4830-01-P